DEPARTMENT OF ENERGY

[Project No. 5-067]

Federal Energy Regulatory Commission

PPL Montana, LLC; Confederated Salish and Kootenai Tribes of the Flathead Nation; Notice Denying Intervention and Rejecting Request for Rehearing

December 18, 2001.

By order issued October 18, 2001, the Director, Division of Hydropower Compliance and Administration, granted an extension of time to develop and implement plans under Articles 60 and 64 for the Kerr Hydroelectric Project No. 5, located on lands within the Flathead Indian Reservation and on other federal lands. 97 FERC ¶ 62,050.

On November 19, 2001, The National Organization to Save Flathead Lake (National Organization) filed a motion to intervene and a request for rehearing of the Director's order to the extent that it granted an extension of time for the filing of a drought management plan under Article 60. On November 19, 2001, Bayside Park and Marine Center, L.L.C. (Bayside) filed a motion to intervene, and Bayside and Pointer Scenic Cruises (Pointer) filed a request for rehearing of the Director's order to the extent that it granted an extension of time for the filing of a drought management plan under Article 60.¹

¹ Although Bayside's motion to intervene states that the filing is on behalf of Bayside and Pointer, the motion seeks intervention only for Bayside and implies that Pointer may already be an intervenor due to earlier participation in matters dealing with the Kerr Project. However, any such previous intervention would not extend to the present post-licensing matter.

In proceedings on compliance matters arising after issuance of a license, the Commission will entertain interventions and requests for rehearing only when the filing or order entails a material change in the plan of project development or in the terms of a license, or would adversely affect the rights of a property holder in a manner not contemplated by the license. The Commission will also entertain interventions and requests for rehearing in proceedings commenced pursuant to a license article if the entity seeking intervention is specifically given a consultation role in the license article in question.² However, the timing of a compliance filing is an administrative matter between the licensee and the Commission and does not give rise to an opportunity to request intervention and seek rehearing.³

² See Pacific Gas & Electric Co., 40 FERC ¶ 61,035 (1987).

³ Bangor Hydro-Electric Co., 87 FERC ¶ 61,035 (1999).

Because the Director's order addressed the timing of a compliance filing, the requests for intervention filed by National Organization and Bayside are dismissed, and the requests for rehearing filed by National Organization, Bayside, and Pointer are rejected.⁴

⁴ Only entities that have filed motions to intervene become parties, and only parties may file a request for rehearing. See 18 C.F.R. 385.713(b) (2001). Therefore, Pointer's request for rehearing is rejected for the additional reason that Pointer did not seek intervention.

This notice constitutes final agency action. Requests for rehearing by the Commission of this notice must be filed within 30 days of issuance of this notice, pursuant to 18 CFR 385.713.

Linwood A. Watson, Jr.,
Acting Secretary.

[FR Doc. 01-31597 Filed 12-21-01; 8:45 am]

BILLING CODE 6717-01-P